RAILROAD RETIREMENT BOARD

Agency Forms Submitted for OMB Review, Request for Comments

Summary

In accordance with the Paperwork Reduction Act of 1995 (44 U.S.C. Chapter 35), the Railroad Retirement Board (RRB) is forwarding an Information Collection Request (ICR) to the Office of Information and Regulatory Affairs (OIRA), Office of Management and Budget (OMB) to request a revision to the following collection of information: 3220-0025, RUIA Investigations and Continuing Entitlement, consisting of RRB Form(s) UI-9, Applicant's Statement of Employment and Wages, UI-23, Claimant's Statement of Service, UI-44, Claim for Credit for Military Service, ID-4F, Advising of Ineligibility for RUIA Benefits, ID-4U, Advising of Service/Earnings Requirements for RUIA Benefits, ID-4Y, Advising of Ineligibility for Sickness Benefits, ID-4X, Advising of Service/Earnings Requirements for Sickness Benefits, ID-20-1, Advising that Normal Unemployment Benefits Are About to Be Exhausted, ID-20-2, Advising that Normal Sickness Benefits Are About to Be Exhausted, ID-20-4, Advising That Normal Sickness Benefits Are About to Be Exhausted/Non-Entitlement, ID-5I, Letter to Non-Railroad Employers on Employment and Earnings of a Claimant, ID-5R (SUP), Report of Employees Paid RUIA Benefits for Every Day in Month Reported as Month of Creditable Service, ID-49R, Letter to Railroad Employers for Payroll Information, and UI-48, Claimant's Statement Regarding Benefit Claim for Days of Employment. Our ICR describes the information we seek to collect from the public. Review and approval by OIRA ensures that we impose appropriate paperwork burdens.

The RRB invites comments on the proposed collection of information to determine (1) The practical utility of the collection; (2) the accuracy of the estimated burden of the collection; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

Previous Requests for Comments

The RRB has already published the initial 60-day notice (71 FR 66991 on November 17, 2006) required by 44 U.S.C. 3506(c)(2). That request elicited no comments.

Information Collection Request (ICR)

Title: RUIA Investigations and Continuing Entitlement.

OMB Control Number: 3220-0025.

Form(s) submitted: UI-9, UI-23, UI-44, ID-4F, ID-4U, ID-4X, ID-4Y, ID-20-1, ID-20-2, ID-20-4, ID-5I, ID-5R(SUP), ID-49R, UI-48.

Type of request: Revision of a currently approved collection.

Affected public: Individuals or households, Business or other for-profit, Non-profit institutions, State, Local or Tribal Government.

Abstract: The information collection has two purposes. When RRB records that railroad service and/or compensation is insufficient to qualify a claimant for unemployment or sickness benefits, the RRB obtains information needed to reconcile the compensation and/or service on record with that claimed by the employee. Other forms in the collection allow the RRB to determine whether unemployment or sickness benefits were properly obtained.

Changes Proposed: The RRB proposes a change to Forms ID-4F, ID-4U, ID-4X, ID-4Y, ID-20-1, ID-20-2, ID-20-4 to request information regarding an employee's military service entry and discharge dates. The information will be requested because the inclusion of the employee's military service, may give the employee enough creditable service months for additional benefits. No other changes are proposed.

The burden estimate for this ICR is unchanged as follows:

Estimated annual number of respondents: 7,905.

Total annual responses: 7,905.

Total annual reporting hours: 1,622.

For Further Information: Copies of the form and supporting documents can be obtained from Charles Mierzwa, the agency clearance officer at (312-751-3363) or Charles.Mierzwa@rrb.gov.

Comments regarding the information collection should be addressed to Ronald J. Hodapp, Railroad Retirement Board, 844 North Rush Street, Chicago, Illinois 60611-2092 or Ronald.Hodapp@RRB.GOV and to the OMB Desk Officer for the RRB, at the Office of Management and Budget, Room 10230, New Executive Office Building, Washington, DC 20503.

Charles Mierzwa,
Clearance Officer.

[FR Doc. E7-2774 Filed 2-15-07; 8:45 am]

BILLING CODE 7905-01-P